NUCLEAR REGULATORY COMMISSION

[Docket Nos. 50-293; 030-34378; and License Nos. DPR-35; 20-07626-04]

In the Matter of Entergy Nuclear Generation Company (Pilgrim Nuclear Power Station); Order Approving Transfer of Operating Authority and Conforming Amendments

I

Entergy Nuclear Generation Company (ENGC or the licensee) is the holder of Facility Operating License No. DPR-35, which authorizes ENGC to possess, use, and operate the Pilgrim Nuclear Power Station (Pilgrim Station or the facility). ENGC is also the holder of Materials License No. 20-07626-04, which authorizes ENGC to possess, use, and transport certain materials in the form of contamination on reactor components. The facility is located in Plymouth County, Massachusetts.

II

By application dated August 24, 2001, the Commission was informed that ENGC proposes to enter into an Operating Agreement with Entergy Nuclear Operations, Incorporated (ENO), and transfer operating authority to ENO. The application was supplemented by submittals dated December 20, 2001, and February 15, 2002. ENO is a direct wholly owned subsidiary of Entergy Nuclear Holding Company #2 and an indirect wholly owned subsidiary of Entergy Corporation. Under the proposed transaction, ENO will be designated as a new facility licensee exclusively authorized to operate and maintain Pilgrim Station in accordance with the terms and conditions of the facility operating license. The transaction involves no change in ENGC's ownership of the facility. The licensee requested approval of the proposed transfer of operating authority under the Pilgrim Station facility operating license and transfer of the materials license to ENO. The licensee also requested conforming amendments to reflect the transfer. The proposed amendments would essentially add ENO to the licenses and make other administrative changes to reflect that ENO is authorized to operate Pilgrim Station.

No physical changes to Pilgrim Station were proposed in the application. In addition, ENGC's entitlement to capacity and energy from Pilgrim Station will not be affected by the transfer of operating authority.

Approval of the transfer of operating authority under the operating license and the conforming license amendments was requested by ENGC pursuant to 10 CFR 50.80 and 10 CFR 50.90. The applicable provisions of the regulations governing the transfer and amendment of the materials license are 10 CFR 30.34, 30.38, 40.41, 40.44, 70.32, and 70.34. Notice of the application for approval and an opportunity for a hearing was published in the Federal Register on October 4, 2001 (66 FR 50694). No hearing requests or written comments were received.

Pursuant to 10 CFR 50.80, no license, or any right thereunder, shall be transferred, directly or indirectly, through transfer of control of the license, unless the Commission shall give its consent in writing. Under 10 CFR 30.34, 40.41, and 70.32, no byproduct, source, or special nuclear material license shall be transferred in violation of the provisions of the Atomic Energy Act of 1954, as amended, which require, inter alia, Commission consent. After reviewing the information in the application by ENGC and other information before the Commission, and relying upon the representations and agreements contained in the application, the NRC staff has determined that ENO is qualified to hold the operating authority under the facility operating license and to hold the materials license, and that the transfer of the operating authority under the facility operating license and the transfer of the materials license to ENO is otherwise consistent with applicable provisions of law, regulations, and orders issued by the Commission, subject to the conditions set forth below. The NRC staff has further found that the application for the proposed license amendments complies with the standards and requirements of the Atomic Energy Act of 1954 (the Act), as amended, and the Commission's rules and regulations set forth in 10 CFR chapter 1; the facility will operate in conformity with the application, the provisions of the Act, and the rules and regulations of the Commission; there is reasonable assurance that the activities authorized by the proposed license amendments can be conducted without endangering the health and safety of the public and that such activities will be conducted in compliance with the Commission's regulations; the issuance of the proposed license amendments will not be inimical to the common defense and security or the health and safety of the public; and the issuance of the proposed amendments will be in accordance with 10 CFR part 51 of the Commission's regulations and all applicable requirements have been satisfied. The foregoing findings are supported by a safety evaluation dated March 15, 2002.

III

Accordingly, pursuant to Sections 161b, 161i, and 184 of the Atomic Energy Act of 1954, as amended, 42 U.S.C. 2201(b), 2201(i), and 2234, and 10 CFR 30.34, 40.41, 50.80, and 70.32, It is hereby ordered that the transfer of the licenses, as described herein, to ENO is approved, subject to the following conditions:

(1) ENO shall, prior to completion of the transfer of operating authority for Pilgrim Station, provide the Director of the Office of Nuclear Reactor Regulation satisfactory documentary evidence that ENO has obtained the appropriate amount of insurance required of licensees under 10 CFR Part 140 of the Commission's regulations.

(2) After receipt of all required regulatory approvals of the transfer of operating authority to ENO, ENGC and ENO shall inform the Director of the Office of Nuclear Reactor Regulation in writing of such receipt within 5 business days and of the date of the closing of the transfer no later than 7 business days prior to the date of closing. If the transfer is not completed by March 30, 2003, this Order shall become null and void, provided, however, upon written application and for good cause shown, such date may in writing be extended.

It is further ordered that, consistent with 10 CFR 2.1315(b), license amendments that make changes, as indicated in Enclosure 2 to the cover letter forwarding this Order, to conform the licenses to reflect the subject transfers are approved. The amendments shall be issued and made effective at the time the proposed transfers are completed.

This Order is effective upon issuance.

For further details with respect to this action, see the initial application dated August 24, 2001, supplements dated December 20, 2001, and February 15, 2002, and the safety evaluation dated March 15, 2002, which are available for public inspection at the Commission's Public Document Room, at One White Flint North, 11555 Rockville Pike (first floor), Rockville, Maryland. Publicly available records will be accessible from the Agencywide Documents Access and Management Systems (ADAMS) Public Electronic Reading Room on the Internet at the NRC Web site http://www.nrc.gov/reading-rm/adams.html.

Dated at Rockville, Maryland, this 15th day of March 2002.
For the Nuclear Regulatory Commission.
Samuel J. Collins,
Director, Office of Nuclear Reactor Regulation.

[FR Doc. 02-6991 Filed 3-21-02; 8:45 am]

BILLING CODE 7590-01-P